DEPARTMENT OF JUSTICE

Antitrust Division

Notice Pursuant to the Defense Production Act of 1950

AGENCY: Antitrust Division, U.S. Department of Justice.

ACTION: Notice of review of voluntary agreement.

SUMMARY: Notice is hereby given pursuant to section 708 of the Defense Production Act of 1950 (“DPA”), that the Assistant Attorney General finds, with respect to the Implementing Voluntary Agreements Under the Defense Production Act (“Voluntary Agreement”) proposed by the Department of Energy (“DOE”), that the purposes of section 708(c)(1) of the DPA may not reasonably be achieved through a voluntary agreement having less anticompetitive effects or without any voluntary agreement. Given this finding, the proposed Voluntary Agreement may become effective following the publication of this notice.

SUPPLEMENTARY INFORMATION: Under the DPA, DOE may enter into plans with representatives of private industry for the purpose of improving the efficiency with which private firms contribute to the national defense when conditions exist that may pose a direct threat to the national defense or its preparedness. Such arrangements are generally known as “voluntary agreements.” Participants in an existing voluntary agreement may adopt documented methods, known as “plans of action,” to implement that voluntary agreement. A defense to actions brought under the antitrust laws is available to each participant acting within the scope of a voluntary agreement and plan of action that has come into force under the DPA.

The DPA requires that each proposed plan of action be reviewed by the Attorney General prior to becoming effective. If, after consulting with the Chair of the Federal Trade Commission, the Attorney General finds that the purposes of the DPA's plans of action provision “may not reasonably be achieved through a . . . voluntary agreement having less anticompetitive effects or without any . . . voluntary agreement,” the voluntary agreement may become effective. 50 U.S.C. 4558(f)(1)(B). All functions which the Attorney General is required or authorized to perform by section 708 of the DPA have been delegated to the Assistant Attorney General, Antitrust Division. 28 CFR 0.40(l).

Executive Order 14,302 “Reinvigorating the Nuclear Fuel Base”, 90 FR 22595 (“E.O. 14,302”) required the Secretary of Energy, in coordination with the Attorney General and the Chairman of the Federal Trade Commission, to utilize authority provided to the President in section 708(c)(1) of the Defense Production Act to seek voluntary agreements with domestic nuclear energy companies to provide for the national defense. The purpose of the proposed Voluntary Agreement is to establish a consortium and plans of action to ensure that the domestic nuclear fuel supply chain capacity is available to enable the continued reliable operation of the Nation's existing and future nuclear reactors. The phases of the domestic nuclear fuel supply chain that will be addressed in the consortium and plans of action include milling, conversion, enrichment, deconversion, fabrication, recycling and reprocessing, end users, and Uranium Fuel Infrastructure Resilience Mechanism (“UFIRM”). The consortium will allow for consultation with domestic nuclear energy companies to discuss and implement methods to enhance the capability to manage spent nuclear fuel to ensure the continued reliable operation of domestic nuclear reactors. DOE has certified that the proposed Voluntary Agreement is necessary to carry out its purpose, as specified in E.O. 14,302.

DOE requested that the Assistant Attorney General, Antitrust Division, pursuant to the Attorney General's delegation of authority under 28 CFR 0.40(i), issue a finding that the proposed Voluntary Agreement satisfies the statutory criteria set forth in 50 U.S.C. 4558(f)(1)(B). The Assistant Attorney General, Antitrust Division, reviewed the proposed Voluntary Agreement and consulted with the Chair of the Federal Trade Commission. On December 12, 2025, by letter to Assistant Secretary for Nuclear Energy Thedore J. Garrish, Gail Slater, Assistant Attorney General, Antitrust Division, issued a finding, pursuant to 50 U.S.C. 4558(f)(1)(B), that the purposes of the DPA's plans of action provision “may not reasonably be achieved through a . . . plan of action having less anticompetitive effects or without any . . . plan of action.”

Dated: December 16, 2025.
David G.B. Lawrence,
Policy Director, Antitrust Division.

[FR Doc. 2025-23443 Filed 12-18-25; 8:45 am]

BILLING CODE 4410-11-P